DEPARTMENT OF COMMERCE

Census Bureau

The American Community Survey

ACTION: Proposed collection; comment request.

SUMMARY: The Department of Commerce, as part of its continuing effort to reduce paper work and respondent burden, invites the general public and other federal agencies to take this opportunity to comment on proposed or continuing information collections, as required by the Paperwork Reduction Act of 1995, Public Law 104-13 (44 U.S.C. 3506(c)(2)(A)).

DATES: Written comments must be submitted on or before March 5, 2007.

ADDRESSES: Direct all written comments to Diana Hynek, Departmental Paperwork Clearance Officer, Department of Commerce, Room 6625, 14th and Constitution Avenue, NW., Washington, DC 20230 or via the Internet at DHynek@doc.gov.

FOR FURTHER INFORMATION CONTACT: Requests for additional information or copies of the information collection instrument(s) and instructions should be directed to Susan Schechter, U.S. Census Bureau, American Community Survey Office, Washington, DC 20233 via FAX on (301) 763-8070 or via the Internet at susan.schechter.bornter@census.gov.

SUPPLEMENTARY INFORMATION:

I. Abstract

Given the rapid demographic changes experienced in recent years and the strong expectation that such changes will continue and accelerate, the once-a-decade detailed data collection as part of a decennial census is no longer acceptable. To meet the needs and expectations of the country, the Census Bureau developed the American Community Survey. This survey collects detailed population and housing data every month and provides tabulations of these data on a yearly basis. In the past, the long-form data were collected only at the time of each decennial census. The American Community Survey allowed the Census Bureau to remove the long form from the plans for the 2010 Census, thus reducing operational risks, improving accuracy, and providing more relevant data. After years of development and testing, the American Community Survey began full implementation in households in January 2005 and in group quarters (GQs) in January 2006.

The American Community Survey provides more timely information for critical economic planning by governments and the private sector. In the current information-based economy, federal, state, tribal, and local decision makers, as well as private business and non-governmental organizations, need current, reliable, and comparable socioeconomic data to chart the future. In 2006, the American Community Survey began publishing up-to-date profiles of American communities every year, providing policymakers, planners, and service providers in the public and private sectors this information every year—not just every ten years.

The American Community Survey will provide data at the census tract level by July 2010. These data are needed by federal agencies and others and provides assurance that long-form type data are available after the elimination of the long form from the 2010 Census.

The Census Bureau presently plans to resubmit the American Community Survey to the Office of Management and Budget (OMB) for extended clearance with content changes. The current ACS content has been reviewed by the Census Bureau, in conjunction with Federal agency stakeholders, to determine potential areas for improved item response and/or data quality.

In the 2006 ACS Methods Test, the Census Bureau conducted cognitive testing of questions identified by the Census Bureau and federal agency stakeholders for changes to improve data quality and/or item response rates. The question, instruction, and/or response category modifications to some of the 2005 ACS content were field tested. The tested questions included: Year structure built, number of rooms and bedrooms, plumbing and kitchen facilities, telephone availability, vehicles, heating fuel, food stamp benefit, value of this property, mortgage components, place of birth, citizenship, year of arrival in the U.S., school enrollment, educational attainment, residence 1 year ago, disability, military status, period of military service, work last week, temporarily absent from a job, looking for work, weeks worked, industry and occupation. Based on the results of the testing, modifications to some of these questions will be incorporated into the 2008 ACS data collection instruments.

In addition to testing modifications to 2005 ACS questions, the 2006 ACS Methods Test also included testing three new topics proposed by Federal agency stakeholders: Health insurance coverage, marital history, and veteran's service-connected disability. Two final components of the 2006 ACS Methods Test included testing a sequential verses grid design to the ACS questionnaire, and testing the inclusion of a questionnaire instruction booklet in the mailing package. The results of 2006 ACS testing will be incorporated into the survey instruments and formally submitted to OMB for review and approval.

II. Method of Collection

The Census Bureau will mail questionnaires to households selected for the American Community Survey. For households that do not return a questionnaire, Census Bureau staff will attempt to conduct interviews via Computer-assisted Telephone Interviews (CATI). We will also conduct Computer-assisted Personal Interviews (CAPI) for a sub sample of nonrespondents. A quality control reinterview will be conducted for a small sample of respondents.

For most types of GQs, Census Bureau field representatives (FRs) will conduct personal interviews with respondents to complete questionnaires or, if necessary, leave questionnaires and ask respondents to complete. Information from GQ contacts will be collected via CAPI. A GQ contact reinterview will be conducted from a sample of GQs primarily through CATI. A very small percentage of the GQ reinterviews will be conducted via CAPI.

The Census Bureau staff will provide Telephone Questionnaire Assistance (TQA) and if the respondent indicates a desire to complete the survey by telephone, the TQA interviewer conducts the interview.

III. Data

OMB Number: 0607-0810.

Form Number(s): ACS-1, ACS-1(SP), ACS-1(PR), ACS-1(PR)SP, ACS-1(GQ), ACS-1(PR)(GQ), GQFQ, ACS CATI (HU), ACS CAPI (HU), ACS RI (HU), and AGQ RI.

Type of Review: Regular.

Affected Public: Individuals, households, and businesses.

Estimated Number of Respondents: We plan to contact the following number of respondents each year: 3,000,000 households; 200,000 persons in group quarters; 20,000 contacts in group quarters; 27,000 households for reinterview; and 1,500 group quarters contacts for reinterview.

Estimated Time Per Response: Estimates are 38 minutes per household, 15 minutes per group quarters contact, 25 minutes per resident in group quarters, and 10 minutes per household or GQ contact in the reinterview samples.

Estimated Total Annual Burden Hours: The estimate is an annual average of 1,994,500 burden hours.

Estimated Total Annual Cost: Except for their time, there is no cost to respondents.

Respondent Obligation: Mandatory.

Authority: Title 13, United States Code, Section 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collections techniques or other forms of information technology.

Comments submitted in response to this notice will be summarized and/or included in the request for the OMB approval of this information collection; they also will become a matter of public record.

Dated: December 28, 2006.
Madeleine Clayton,
Management Analyst, Office of the Chief Information Officer.

[FR Doc. E6-22560 Filed 1-3-07; 8:45 am]

BILLING CODE 3510-07-P